DEPARTMENT OF THE INTERIOR

Geological Survey

[GR23MN00BHA1500; OMB Control Number 1028-NEW]

Agency Information Collection Activities; Stakeholder Engagement for Natural Hazards Investigations in the Caribbean

AGENCY: U.S. Geological Survey, Interior.

ACTION: Notice.

SUMMARY: In accordance with the Paperwork Reduction Act of 1995 (PRA), the U.S. Geological Survey (USGS) is proposing an information collection to publicly announce a request for information regarding natural-hazards resources and experts in U.S. Caribbean territories and other Caribbean nations.

DATES: Interested persons are invited to submit comments on or before February 13, 2023.

ADDRESSES: Send your comments on this information collection request (ICR) by mail to the U.S. Geological Survey, Information Collections Officer, 12201 Sunrise Valley Drive MS 159, Reston, VA 20192; or by email to gs-info_collections@usgs.gov. Please reference OMB Control Number 1028-NEW in the subject line of your comments.

FOR FURTHER INFORMATION CONTACT: To request additional information about this ICR, contact Donya Frank-Gilchrist by email at dfrank-gilchrist@usgs.gov, or by telephone at 727-502-8000. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: In accordance with the PRA, 44 U.S.C. 3501 et seq. and 5 CFR 1320.8(d)(1), all information collections require approval. We may not conduct or sponsor, and you are not required to respond to, a collection of information unless it displays a currently valid OMB control number.

As part of our continuing effort to reduce paperwork and respondent burdens, we invite the public and other Federal agencies to comment on new, proposed, revised, and continuing collections of information. This helps us assess the impact of our information collection requirements and minimize the public's reporting burden. It also helps the public understand our information collection requirements and provide the requested data in the desired format.

We are especially interested in public comment addressing the following:

(1) Whether or not the collection of information is necessary for the proper performance of the functions of the agency, including whether or not the information will have practical utility;

(2) The accuracy of our estimate of the burden for this collection of information, including the validity of the methodology and assumptions used;

(3) Ways to enhance the quality, utility, and clarity of the information to be collected; and

(4) How the agency might minimize the burden of the collection of information on those who are to respond, including through the use of appropriate automated, electronic, mechanical, or other technological collection techniques or other forms of information technology, e.g., permitting electronic submission of response.

Comments that you submit in response to this notice are a matter of public record. We will include or summarize each comment in our request to OMB to approve this ICR. Before including your address, phone number, email address, or other personally identifiable information (PII) in your comment, you should be aware that your entire comment—including your PII—may be made publicly available at any time. While you can ask us in your comment to withhold your PII from public review, we cannot guarantee that we will be able to do so.

Abstract: We seek to connect with natural-hazards experts in the Caribbean to discuss the feasibility for the USGS to conduct natural-hazards research in the region in collaboration with U.S. territories and international partners. Natural hazards impacting U.S. Caribbean territories are driven by regional-scale processes which are coupled with those of neighboring international countries. Multi-hazards such as coastal storms and related hazards including flooding, sea level rise, freshwater scarcity, and coral reef degradation, should be investigated at a regional scale to better understand the processes and develop accurate numerical models to reduce loss of life and property. We will discuss primary natural hazards of concern with local experts to learn about their mitigation efforts and discuss areas of overlapping interests in which we may be able to collaborate. A final report will document feasible engagement strategies, key takeaways, and lessons learned. A database will be compiled of hazards experts and resources in each country to facilitate future potential collaborations.

Title of Collection: Stakeholder Engagement for Natural Hazards Investigations in the Caribbean.

OMB Control Number: 1028-NEW.

Form Number: None.

Type of Review: New.

Respondents/Affected Public: universities, natural resource and disaster relief managers, community leaders, natural hazards experts, disaster and risk professionals.

Total Estimated Number of Annual Respondents: 100.

Total Estimated Number of Annual Responses: 100.

Estimated Completion Time per Response: 2 minutes.

Total Estimated Number of Annual Burden Hours: 3.3 hours.

Respondent's Obligation: Voluntary.

Frequency of Collection: One time.

Total Estimated Annual Nonhour Burden Cost: None.

An agency may not conduct or sponsor, nor is a person required to respond to, a collection of information unless it displays a currently valid OMB control number.

The authority for this action is the PRA (44 U.S.C. 3501 et seq).

Nathaniel Plant,
Center Director, USGS St. Petersburg Coastal and Marine Science Center.

[FR Doc. 2022-27176 Filed 12-14-22; 8:45 am]

BILLING CODE 4338-11-P